ENVIRONMENTAL PROTECTION AGENCY

[EPA-HQ-OPP-2024-0023; FRL-12538-01-OMS]

Agency Information Collection Activities; Submission to the Office of Management and Budget for Review and Approval; Comment Request; Standards for Pesticide Containers and Containment (Renewal)

AGENCY: Environmental Protection Agency (EPA).

ACTION: Notice.

SUMMARY: The Environmental Protection Agency (EPA) has submitted an information collection request (ICR), Standards for Pesticide Containers and Containment (EPA ICR Number 1632.07 and OMB Control Number 2070-0133) to the Office of Management and Budget (OMB) for review and approval in accordance with the Paperwork Reduction Act (PRA). This is a proposed extension of the ICR, which is currently approved through January 31, 2025. Public comments were previously requested via the Federal Register on April 22, 2024. This notice allows for an additional 30 days for public comments.

DATES: Comments must be received on or before February 3, 2025.

ADDRESSES: Submit your comments to EPA, referencing Docket ID Number EPA-HQ-OPP-2024-0023, to EPA online using https://www.regulations.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Office of Program Support (7602M), Office of Chemical Safety and Pollution Prevention, Environmental Protection Agency, 1200 Pennsylvania Ave. NW, Washington, DC 20460-0001; telephone number: (703) 719-1649; email address: siu.carolyn@epa.gov.

SUPPLEMENTARY INFORMATION: This is a request to renew the approval of an ICR currently approved through January 31, 2025. An agency may not conduct or sponsor and a person is not required to respond to a collection of information unless it displays a currently valid OMB control number.

Public comments were previously requested via the Federal Register on April 22, 2024, establishing a 60-day comment period (89 FR 29323). This notice allows for an additional 30 days for public comments. Supporting documents, which explain in detail the information collection activities and related estimated burden and costs that are summarized in this document, are available in the docket. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers the information collection activities associated with the pesticide container design and residue removal requirements and containment structure requirements. With respect to the container design and residue removal requirements, the information collection activities are associated with the requirement that businesses subject to the container regulations (pesticide registrants) and repackaging regulations (pesticide registrants and refillers) maintain records of test data, cleaning procedures, certain data when a container is refilled, and other supporting information. These records are subject to both call-in by EPA and on-site inspection by EPA and its representatives. EPA has not established a regular schedule for the collection of these records, and there is no reporting. With respect to the containment structure requirements, the information collection activities are associated with the requirement that businesses subject to the containment structure regulations maintain records of the: (1) Monthly inspection and maintenance of each containment structure and all stationary bulk containers; (2) Duration over which non-stationary bulk containers holding pesticide and not protected by a secondary containment unit remain at the same location; and (3) Construction date of the containment structure. The businesses subject to the containment structure regulations include agrichemical retailers and refilling establishments, custom blenders and commercial applicators of agricultural pesticides. The records have to be maintained by the owners and operators of such businesses and made available to inspectors to ensure that businesses are in compliance with containment requirements. These inspections are generally conducted by the states, which enforce Federal Insecticide, Fungicide and Rodenticide Act (FIFRA) regulations through cooperative agreements with EPA.

Form number(s): None.

Respondents/affected entities: Entities potentially affected are those that are part of the regulated community affected by the container design and residue removal regulations which includes businesses that formulate pesticide products or repackage pesticide products into refillable containers. The ICR includes a list of potentially affected entities with North American Industrial Classification System (NAICS) codes provided to assist in determining potential applicability. NAICS codes identified in question 12 of the ICR.

Respondent's obligation to respond: Mandatory under FIFRA sections 3, 8, 19 and 25 (7 U.S.C. 136f, 136q, and 136w).

Estimated number of potential respondents: 23,586.

Frequency of response: On Occasion.

Total estimated burden: 180,763 hours (per year). Burden is defined at 5 CFR 1320.3(b).

Total estimated costs: $10,864,047 (per year), includes $419,875 annualized capital investment or maintenance and operational costs.

Changes in the estimates: There is no change in the number of burden hours as there are no programmatic updates or changes for this ICR. The change in costs for the regulated community is $1,830,391. The change in costs for the Agency is $1,747. The increase in costs for both are based on BLS wage rate adjustments. There is also an increase in capital costs of $83,975 as a result of an increase in costs for agricultural pesticide refiller. These are adjustments.

Courtney Kerwin,
Director, Information Engagement Division.

[FR Doc. 2024-31490 Filed 12-31-24; 8:45 am]

BILLING CODE 6560-50-P